DEPARTMENT OF COMMERCE

International Trade Administration

[A-583-853]

Certain Crystalline Silicon Photovoltaic Products From Taiwan: Final Results of Antidumping Duty Administrative Review and Final Determination of No Shipments; 2020-2021

AGENCY: Enforcement and Compliance, International Trade Administration, Department of Commerce.

SUMMARY: On November 5, 2021, the Department of Commerce (Commerce) published the preliminary results of the administrative review of the antidumping duty order on certain crystalline silicon photovoltaic products (solar products) from Taiwan during the period of review (POR), February 1, 2020, to January 31, 2021. We received no comments or requests for a hearing. We continue to find that 16 of the companies under review made no shipments of solar products from Taiwan during the POR. Moreover, with respect to the companies that did not submit no-shipment certifications and were not selected as mandatory respondents, we have determined to apply a rate of 7.89 percent, i.e., the non-selected rate from the prior (fifth) administrative review under this antidumping duty order.

DATES: Applicable March 10, 2022.

FOR FURTHER INFORMATION CONTACT: Thomas Martin or Zachary Shaykin, AD/CVD Operations, Office IV, Enforcement and Compliance, International Trade Administration, U.S. Department of Commerce, 1401 Constitution Avenue NW, Washington, DC 20230; telephone: (202) 482-3936 or (202) 482-2638, respectively.

SUPPLEMENTARY INFORMATION:

Background

On November 5, 2021, Commerce published the Preliminary Results and invited interested parties to comment.¹ We received no comments on the Preliminary Results from any interested parties. Commerce conducted this review in accordance with section 751 of the Tariff Act of 1930, as amended (the Act).

¹ See Certain Crystalline Silicon Photovoltaic Products from Taiwan: Preliminary Results of Antidumping Duty Administrative Review, Partial Rescission of Antidumping Duty Administrative Review and Preliminary Determination of No Shipments; 2020-2021, 86 FR 61131 (November 5, 2021).

Scope of the Order

The merchandise covered by the Order is solar products from Taiwan.² Imports of subject merchandise are classified under the Harmonized Tariff Schedule of the United States (HTSUS) subheadings: 8501.71.0000, 8501.72.1000, 8501.72.2000, 8501.72.3000, 8501.72.9000, 8501.80.1000, 8501.80.2000, 8501.80.3000, 8501.80.9000, 8507.20.8010, 8507.20.8031, 8507.20.8041, 8507.20.8061, 8507.20.8091, 8541.42.0010, 8541.43.0010. These HTSUS subheadings are provided for convenience and customs purposes; the written description of the scope of the Order is dispositive.³

² See Certain Crystalline Silicon Photovoltaic Products from Taiwan: Antidumping Duty Order, 80 FR 8596 (February 18, 2015) (Order).

³ Id.

Final Determination of No Shipments

As noted in the Preliminary Results, we received claims of no shipments from 16 producers and/or exporters under review, and we preliminarily determined that these 16 companies had no shipments of subject merchandise during the POR.⁴ We received no comments from interested parties with respect to these claims. Therefore, because we have not received any information to contradict our preliminary no-shipment determination, nor any comment in opposition to our preliminary finding or to record evidence indicating that these 16 companies had no entries of subject merchandise to the United States during the POR, we continue to find that these 16 companies had no shipments during the POR.⁵ We will issue appropriate instructions to U.S. Customs and Border Protection (CBP) based on our final results.

⁴ See Preliminary Results, 86 FR at 61131-32. These companies are: (1) AU Optronics Corporation (AU); (2) Canadian Solar Inc.; (3) Canadian Solar International Limited; (4) Canadian Solar Manufacturing (Changshu), Inc.; (5) Canadian Solar Manufacturing (Luoyang), Inc.; (6) Canadian Solar Solutions Inc.; (7) Vina Solar Technology Co., Ltd.; (8) Baoding Tianwei Yingli New Energy Resources Co., Ltd.; (9) Beijing Tianneng Yingli New Energy Resources Co., Ltd.; (10) Hainan Yingli New Energy Resources Co., Ltd.; (11) Hengshui Yingli New Energy Resources Co., Ltd.; (12) Lixian Yingli New Energy Resources Co., Ltd.; (13) Shenzhen Yingli New Energy Resources Co., Ltd.; (14) Tianjin Yingli New Energy Resources Co., Ltd.; (15) Yingli Energy (China) Co., Ltd.; and (16) Yingli Green Energy International Trading Company Limited.

⁵ See Preliminary Results, 86 FR at 61131-32.

Final Rate for Non-Examined Companies

The statute and Commerce's regulations do not address the establishment of a rate to be applied to companies not selected for individual examination when Commerce limits its examination in an administrative review pursuant to section 777A(c)(2) of the Act. Generally, Commerce looks to section 735(c)(5) of the Act, which provides instructions for calculating the all-others rate in a less-than-fair-value (LTFV) investigation, for guidance when calculating the rate for companies which were not selected for individual examination in an administrative review. Under section 735(c)(5)(A) of the Act, the all-others rate is normally “an amount equal to the weighted-average of the estimated weighted-average dumping margins established for exporters and producers individually investigated, excluding any zero or de minimis margins, and any margins determined entirely {on the basis of facts available}.” However, in this administrative review, there are no individually investigated companies receiving calculated dumping margins. Accordingly, because we have no companies in the instant review for which we are calculating a rate that can be applied to the non-selected companies,⁶ for the final results of review, we have determined to apply a rate of 7.89 percent to the non-selected respondents, which is the weighted-average dumping margin determined and assigned to the non-selected respondents in the previous (fifth) administrative review of the Order.⁷

⁶ In the Preliminary Results, Commerce rescinded the review with respect to eleven companies that had reviewable entries of subject merchandise during the POR, including the mandatory respondents, in response to timely withdrawn review requests from all parties that requested a review of these eleven companies. See Preliminary Results, 86 FR at 61131.

⁷ See Certain Crystalline Silicon Photovoltaic Products from Taiwan: Final Results of Antidumping Duty Administrative Review; Partial Rescission of Antidumping Duty Administrative Review; Final Determination of No Shipments; 2019-2020, 86 FR 49509, 49510-11 (September 3, 2021), and accompanying Issues and Decision Memorandum.

Final Results of Review

We determine that the following weighted-average dumping margins exist for the non-selected respondents for the POR, February 1, 2020, through January 31, 2021:

Producer/exporter | Weighted-average dumping margin (percent)
Baoding Jiasheng Photovoltaic Technology Co. Ltd | 7.89
Boviet Solar Technology Co., Ltd | 7.89
Kyocera Mexicana S.A. de C.V | 7.89
Sunrise Energy Co. Ltd | 7.89

Disclosure

As noted above, no party commented on the Preliminary Results. As a result, we have not modified our analysis from the Preliminary Results and will not issue a decision memorandum to accompany this Federal Register notice. We are adopting the Preliminary Results as the final results of this review. Further, because we have not changed our calculations since the Preliminary Results, there are no new calculations to disclose in accordance with 19 CFR 351.224(b) for these final results.

Assessment Rates

Pursuant to section 751(a)(2)(C) of the Act, and 19 CFR 351.212(b)(1), Commerce has determined, and CBP shall assess, antidumping duties on all appropriate entries of subject merchandise in accordance with the final results of this review. In accordance with the Preliminary Results, we determined that no companies in this review had reviewable entries of subject merchandise upon which to calculate a dumping margin.⁸

⁸ See Preliminary Results, 86 FR at 61132.

For the companies which were not selected for individual review, we will instruct CBP to assess antidumping duties at an ad valorem rate equal to the non-selected rate determined in the previous administrative review. The final results of this review shall be the basis for the assessment of antidumping duties on entries of merchandise covered by the final results of this review and for future deposits of estimated duties, where applicable.⁹

⁹ See section 751(a)(2)(C) of the Act.

For entries of subject merchandise produced during the POR by the 16 companies that had no shipments during the POR, we will instruct CBP to liquidate such entries at the all-others rate if there is no rate for the intermediate company(-ies) involved in the transaction.¹⁰

¹⁰ For a full discussion of this practice, see Antidumping and Countervailing Duty Proceedings: Assessment of Antidumping Duties, 68 FR 23954 (May 6, 2003).

Commerce intends to issue appropriate assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of subject merchandise entered, or withdrawn from warehouse, for consumption on or after the publication date of the final results of this administrative review, as provided by section 751(a)(2)(C) of the Act: (1) The cash deposit rate for all remaining companies in this review will be equal to the weighted-average dumping margin of 7.89 percent that was established in the final results of the previous administrative review; (2) for previously reviewed or investigated companies not covered in this review, including the companies which Commerce has determined had no shipments in these final results, the cash deposit rate will continue to be the company-specific rate published for the most recently completed segment of this proceeding in which the companies participated; (3) if the exporter is not a firm covered in this review, a prior review, or the original LTFV investigation, but the producer is, then the cash deposit rate will be the cash deposit rate established for the most recently completed segment for the producer of the subject merchandise; and (4) if neither the exporter nor the manufacturer is a firm covered in this or any previous review or the LTFV investigation, the cash deposit rate for all other producers or exporters will continue to be 19.50 percent, the all-others rate established in the LTFV investigation.¹¹ The cash deposit requirements, when imposed, shall remain in effect until further notice.

¹¹ See Certain Crystalline Silicon Photovoltaic Products from Taiwan: Final Determination of Sales at Less Than Fair Value, 79 FR 76966, 76969 (December 23, 2014).

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice also serves as the final reminder to parties subject to administrative protective order (APO) of their responsibility concerning the return or destruction of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

This notice is issued and published in accordance with sections 751(a)(1) and 777(i)(1) of the Act, and 19 CFR 351.221(b)(5) and 19 CFR 351.213(h).

Dated: March 3, 2022.
Lisa W. Wang,
Assistant Secretary for Enforcement and Compliance.

[FR Doc. 2022-05070 Filed 3-9-22; 8:45 am]

BILLING CODE 3510-DS-P